ENVIRONMENTAL PROTECTION AGENCY

[FRL-9983-39-OA]

Notification of a Public Teleconference of the Chartered Science Advisory Board (SAB)

AGENCY: Environmental Protection Agency (EPA).

ACTION: Notice.

SUMMARY: The Environmental Protection Agency (EPA), Science Advisory Board (SAB) Staff Office announces a public teleconference of the Chartered SAB to: Conduct two quality reviews of the draft SAB Review of EPA's Draft Toxicological Review of Ethyl Tertiary Butyl Ether and Draft Toxicological Review of tert-Butyl Alcohol; and the draft SAB review of the EPA's Framework for Assessing Biogenic CO2 Emissions from Stationary Sources (2014); and receive updates on current SAB projects and future topics from the EPA.

DATES: The teleconference will be held on Wednesday, September 26, 2018, from 1:00 p.m. to 5:00 p.m. (Eastern Time).

ADDRESSES: The public teleconference will be held by telephone only.

FOR FURTHER INFORMATION CONTACT: Any member of the public wishing to obtain information concerning the public teleconference may contact Mr. Thomas Carpenter, Designated Federal Officer (DFO), EPA Science Advisory Board Staff Office (1400R), U.S. Environmental Protection Agency, 1200 Pennsylvania Avenue NW, Washington, DC 20460; by telephone/voice mail at (202) 564-4885 or at carpenter.thomas@epa.gov. General information about the SAB, as well as any updates concerning the meeting announced in this notice, may be found on the EPA website at http://www.epa.gov/sab.

SUPPLEMENTARY INFORMATION: The SAB was established pursuant to the Environmental Research, Development, and Demonstration Authorization Act (ERDDAA), codified at 42 U.S.C. 4365, to provide independent scientific and technical advice to the Administrator on the scientific and technical basis for Agency positions and regulations. The SAB is a Federal Advisory Committee chartered under the Federal Advisory Committee Act (FACA), 5 U.S.C., App. 2. The SAB will comply with the provisions of FACA and all appropriate SAB Staff Office procedural policies. Pursuant to FACA and EPA policy, notice is hereby given that the SAB will hold a public teleconference to discuss and deliberate on the topics below.

Quality Review of the draft SAB Review of EPA's Draft Assessments titled Toxicological Review of Ethyl Tertiary Butyl Ether and Toxicological Review of tert-Butyl Alcohol (tert-Butanol): National Center for Environmental Assessment (NCEA) in the EPA's Office of Research and Development (ORD) develops toxicological reviews/assessments for various chemicals for the Integrated Risk Information System and requested that the SAB conduct a peer review of the two EPA draft assessments. NCEA is developing a draft Toxicological Review of tert-Butyl Alcohol (tert-butanol) and Toxicological Review of Ethyl Tertiary Butyl Ether (ETBE). These two draft EPA documents represent new IRIS assessments of tert-butanol and ETBE. Experimental animal data and other relevant data from studies of the noncancer and cancer effects of tert-butanol and ETBE are evaluated in these assessments. These assessments include an oral reference dose (RfD) and inhalation reference concentration (RfC) for noncancer effects as well as a cancer assessment. The cancer assessments characterize tert-butanol and ETBE as having suggestive evidence of carcinogenic potential to humans and include oral cancer slope factors for both compounds and an inhalation unit risk for ETBE. The EPA SAB Staff Office augmented the SAB CAAC with subject matter experts, to provide advice to the Administrator through the chartered SAB regarding these assessments. Background on the current advisory activity can be found on the SAB website at: https://yosemite.epa.gov/sab/sabpeople.nsf/WebCommittees/BOARD.

Quality review of a draft SAB review report on the Framework for Assessing Biogenic CO2 Emissions from Stationary Sources: In 2012, the SAB completed a review of the first draft accounting framework addressing scientific and technical issues associated with biogenic carbon dioxide (CO2) emissions, Accounting Framework for Biogenic CO2 Emissions from Stationary Sources (September 2011). The EPA subsequently revised the 2011 framework and requested the SAB to conduct a review of the Framework for Assessing Biogenic CO2 Emissions from Stationary Sources (November 2014). The purpose of the 2014 framework is to develop a method for calculating the adjustment, or Biogenic Assessment Factor (BAF), for carbon emissions associated with the combustion of biogenic feedstocks considering the biological carbon cycle effects associated with their growth, harvest and processing. The SAB conducted two previous quality reviews and identified revisions to the draft reports in order to clarify the recommendations and in some cases to reframe them to ensure they are not policy prescriptive. This report is a product of SAB's direct efforts and utilizes portions of the draft reports. Previous drafts of the panel's report are retained on the SAB website. Background on the current advisory activity, Biogenic Carbon Dioxide Emissions from Stationary Sources—Assessment Framework can be found on the SAB website at http://yosemite.epa.gov/sab/sabproduct.nsf/fedrgstr_activites/Biogenic%20CO2%20Framework?OpenDocument.

Briefings and updates. The SAB will receive updates from SAB members on the current activities of committees and panels developing advisory reports and briefings on future topics from the EPA staff.

Pursuant to FACA and EPA policy, notice is hereby given that the Chartered SAB will hold a public teleconference to discuss information provided by the EPA on these topics. The Chartered SAB will comply with the provisions of FACA and all appropriate SAB Staff Office procedural policies.

Availability of Meeting Materials: Prior to the meeting, the review documents, agenda and other materials will be accessible on the SAB website at http://www.epa.gov/sab/.

Procedures for Providing Public Input: Public comment for consideration by the EPA's federal advisory committees and panels has a different purpose from public comment provided to the EPA program offices. Therefore, the process for submitting comments to a federal advisory committee is different from the process used to submit comments to an EPA program office.

Federal advisory committees and panels, including scientific advisory committees, provide independent advice to the EPA. Members of the public can submit comments for a federal advisory committee to consider as it develops advice for the EPA. Interested members of the public may submit relevant written or oral information on the topic of this advisory activity, and/or the group conducting the activity, for the SAB to consider during the advisory process. Input from the public to the SAB will have the most impact if it provides specific scientific or technical information or analysis for SAB to consider or if it relates to the clarity or accuracy of the technical information. Members of the public wishing to provide comment should follow the instructions below to submit comments. Oral Statements: In general, individuals or groups requesting an oral presentation on a public teleconference will be limited to three minutes. Each person making an oral statement should consider providing written comments as well as their oral statement so that the points presented orally can be expanded upon in writing. Interested parties should contact Mr. Thomas Carpenter, DFO, in writing (preferably via email) at the contact information noted above by September 19, 2018, to be placed on the list of public speakers. Written Statements: Written statements should be supplied to the DFO via email at the contact information noted above by September 19, 2018, so that the information may be made available to the SAB members for their consideration. It is the SAB Staff Office general policy to post written comments on the web page for the advisory meeting or teleconference. Members of the public should be aware that their personal contact information, if included in any written comments, may be posted to the SAB website. Copyrighted material will not be posted without explicit permission of the copyright holder.

Accessibility: For information on access or services for individuals with disabilities, please contact Mr. Thomas Carpenter at the contact information provided above. To request accommodation of a disability, please contact Mr. Carpenter preferably at least ten days prior to each meeting to give the EPA as much time as possible to process your request.

Dated: August 30, 2018.
Khanna Johnston,
Deputy Director, EPA Science Advisory Staff Office.

[FR Doc. 2018-19361 Filed 9-5-18; 8:45 am]

BILLING CODE 6560-50-P